DEPARTMENT OF THE INTERIOR

National Park Service

Sixty-Day Notice of Intention To Request Clearance of Collection of Information—Opportunity for Public Comment (“Programmatic Approval of NPS-Sponsored Public Surveys”); Correction

AGENCY: National Park Service, Department of the Interior.

ACTION: Notice, correction.

SUMMARY: The National Park Service published a Sixty-Day Notice of Intention To Request Clearance of Collection of Information—Opportunity for Public Comment (“Programmatic Approval of NPS-Sponsored Public Surveys”) in the Federal Register of April 9, 2001. The document contained incorrect information regarding the type of request.

FOR FURTHER INFORMATION CONTACT: Dr. Gary E. Machlis. Voice: 202-208-5391, Fax 202.208.4620, Email: gary_machlis@nps.gov>.

Correction

In the Federal Register of April 9, 2001, in FR Doc. 01-8687, on page 18500, correct the “Type of Request” caption to read:

Type of Request: Extension of a currently approved collection.

Dated: April 9, 2001.
Brian Forist,
Research Associate, NPS Social Science Program.

[FR Doc. 01-9172 Filed 4-12-01; 8:45 am]

BILLING CODE 4310-70-M